DEPARTMENT OF LABOR

Employment and Training Administration

[TA-W-37,823; TA-W-37,823A]

Carleton Woolen Mills, Inc.; Amended Certification Regarding Eligibility To Apply for Worker Adjustment Assistance

In accordance with section 223 of the Trade Act of 1974 (19 U.S.C. 2273) the Department of Labor issued a Certification of Eligibility to Apply for Worker Adjustment Assistance on August 18, 2000, applicable to workers of Carleton Woolen Mills, Inc., Winthrop, Maine. The notice was published in the Federal Register on September 12, 2000 (65 FR 55050).

At the request of the petitioners, the Department reviewed the certification for workers of the subject firm. The workers were engaged in the production of woolen fabric. New information shows that worker separations occurred at the New York, New York location of Carleton Woolen Mills, Inc. The New York, New York location provided administration, sales, styling, design and support function services for the subject firm's production facility in Winthrop, Maine. All operations at Carleton Woolen Mills, Inc. ceased on April 21, 2000.

Accordingly, the Department is amending the certification to cover workers of Carleton Woolen Mills, Inc., New York, New York.

The intent of the Department's certification is to include all workers of Carleton Woolen Mills, Inc. adversely affected by increased imports of woolen fabric.

The amended notice applicable to TA-W-37,823 is hereby issued as follows:

All workers of Carleton Woolen Mills, Inc., Winthrop, Maine (TA-W-37,823) and New York, New York (TA-W-37,823A) who became totally or partially separated from employment on or after July 23, 2000 through August 18, 2002 are eligible to apply for adjustment assistance under Section 223 of the Trade Act of 1974.

Signed at Washington, DC this 31st day of October, 2000.
Linda G. Poole,
Certifying Officer, Division of Trade Adjustment Assistance.

[FR Doc. 00-29159 Filed 11-14-00; 8:45 am]

BILLING CODE 4510-30-M